DEPARTMENT OF HEALTH AND HUMAN SERVICES

Food and Drug Administration

[Docket No. FDA-2014-N-0411]

Cooperative Agreement To Support the Illinois Institute of Technology's National Center for Food Safety and Technology

AGENCY: Food and Drug Administration, HHS.

ACTION: Notice.

SUMMARY: The Food and Drug Administration (FDA) is announcing the availability of grant funds for a cooperative agreement in support of the Illinois Institute of Technology (IIT), which supports the National Center for Food Safety and Technology (NCFST). The estimated amount of support in Fiscal Year (FY) 14 will be for up to $5 million (direct plus indirect costs), with the possibility of 4 additional years of support for up to $20 million, subject to the availability of funds. This award will improve public health by continued support of an applied research, education, and outreach program related to the safety of food processing technologies and processed foods.

DATES: Important dates are as follows:

1. The application due date is June 3, 2014.

2. The anticipated start date is September 2014.

3. The opening date is May 3, 2014.

4. The expiration date is June 4, 2014.

ADDRESSES: Submit the original paper application to Gladys Melendez (Bohler) and a copy to Mickey Parish at the following addresses: Mickey Parish, Food and Drug Administration, Center for Food Safety and Applied Nutrition (CFSAN), 5100 Paint Branch Pkwy., HFS-300, Rm. 3A-0264, College Park, MD 20740, 240-402-1728, Mickey.Parish@fda.hhs.gov; and Gladys Melendez (Bohler), Division of State Acquisitions, Agreements and Grants, Food and Drug Administration, (HFA-500), 5630 Fishers Lane, Rm. 2032, Rockville, MD 20857, 240-731-3905, gladys.bohler@fda.hhs.gov.

For more information on this funding opportunity announcement (FOA) and to obtain detailed requirements, please refer to the full FOA located at http://www.fda.gov/food/newsevents/default.htm.

SUPPLEMENTARY INFORMATION:

I. Funding Opportunity Description

Funding Opportunity Number: RFA-FD-1-005.

Catalog of Federal Domestic Assistance Number: 93.103

A. Background

FDA has supported the NCFST under six previously awarded cooperative agreements (53 FR 15736; 56 FR 46189; 59 FR 24703; 64 FR 39512; 69 FR 25405; and 74 FR 26408). NCFST was established by IIT to bring together the food safety and technology expertise of academia, industry, and FDA for the purpose of supporting research and outreach efforts related to the safety of foods based on a common goal of enhancing the safety of the food supply for U.S. consumers. NCFST has been successful in developing research programs, such as those related to low-moisture foods, and outreach programs, such as those related to sprout safety; these successes were achieved as a result of NCFST partnering with industry, academia, and FDA.

NCFST is structured so that representatives of participating organizations play a role in establishing policy and administrative procedures, as well as identifying long- and short-term research needs. With this organizational structure, NCFST is able to build cooperative food safety programs on a foundation of knowledge about current industrial trends in food processing and packaging technologies, regulatory perspectives from public health organizations, and fundamental scientific expertise from academia. This award will improve public health by continued support of an applied research, education, and outreach program related to the safety of food processing technologies and processed foods.

B. Research Objectives

FDA recognizes that food production and processing technology is rapidly changing, that globalization of the food supply is increasing, and that the number and nature of the hazards associated with foods is rapidly evolving. FDA intends to maintain and facilitate the further development of NCFST for the purpose of enhancing food safety to benefit the public. NCFST is uniquely positioned as a key component of FDA's food protection program. Specifically, through the Center's science platforms the research at NCFST focuses on the development and validation of food processing and packaging technologies for safety and quality; investigation and development of preventive technologies targeted to reduce or eliminate harmful chemical and microbial contamination of foods, and laboratory method performance (including method validation) to address issues associated with FDA-regulated products. Additionally the development of an integrated collaborative food protection research/education/outreach program will provide fundamental food safety information, in the public domain, for use by all segments of the food science community in product and process development, regulatory activities, academic programs, and consumer programs.

C. Eligibility Information

Competition is limited to the Illinois Institute of Technology. FDA believes that continued support of NCFST at IIT is appropriate because IIT is uniquely qualified to fulfill the objectives of the proposed cooperative agreement. IIT's Moffett Center, where NCFST is located, is a unique research facility that includes an industrial-size pilot plant and smaller pilot plants for food processing and packaging equipment, a pathogen containment pilot plant, a packaging laboratory, analytical laboratories, offices, containment facilities, classrooms, a distance learning center, and support facilities, which permit research from bench top to industrial scale. The industrial-size pilot plant is built to accommodate routine food processing and packaging research in a commercial atmosphere. The physical layout of the facility provides maximum versatility in the use and arrangement of equipment of both commercial and pilot size, and in the capability to simultaneously operate several different pieces of equipment without interference with each other. Additionally, NCFST has a Biosafety Level 3 pilot plant and laboratory, as well as a select agent laboratory to conduct studies with Clostridium botulinum and other select agents.

Since 1988, IIT has provided an environment in which scientists from diverse backgrounds such as academia, government, and industry have brought their unique perspectives to focus on contemporary issues of food safety. NCFST functions as a neutral ground where scientific exchange about generic food safety issues occurs freely and is channeled into the design of cooperative food safety programs. NCFST has become a center of cutting edge technologies, such as high pressure processing, cold plasma processing, pulsed electric field processing, pulsed light processing, high power ultrasound processing, microwave processing, and ultraviolet light processing. Additional research at NCFST is focused on multiple areas associated with food safety, including but not limited to, validating cleaning processes to reduce allergen cross contact; research on effective cleaning and sanitizing processes for contaminated nut butter lines; research on the effectiveness of post-harvest risk mitigation strategies for processing fresh produce; research on detection and recovery of viruses in foods; validating processes for C. botulinum control; and applications of nanotechnology.

This cooperative research will fill existing gaps in knowledge and expertise associated with improving the safety of foods and will provide fundamental food safety information in the public domain for use by all segments of the food science community in product and process development, regulatory activities, academic programs, and consumer programs. A particular use of the research data by both industry and public health agencies is in development of the scientific basis for preventive control programs. Food manufacturers will use the information in the design of preventive control programs for use in their plants to reduce or eliminate food safety hazards before they occur and enhance the safety of the final product. Public health agencies can design investigational techniques to appropriately target food safety systems used by those who manufacture, process, pack, or hold food.

In addition, IIT is the coordinator of the Food Safety Preventive Controls Alliance and the Sprouts Safety Alliance, leveraging the expertise of academia, industry, and FDA for the purpose of developing and delivering standardized curricula related to FDA Food Safety Modernization Act requirements. In addition to training, these Alliances will provide outreach and technical assistance to industry in the future.

While not a component of the cooperative agreement, an integral part of the NCFST cooperative research program is the ability to leverage and provide hands-on experience in food safety for the next generation of food safety scientists through partnering with IIT's academic degree program in food safety and food processing sciences. The program produces graduates with a foundation in food science and technology with specialization in food safety. Graduates from this program will manage quality control, safety assurance, and Hazard Analysis & Critical Control Points (HACCP) programs in industry. They will design equipment and processes for use in the production and packaging of safe food products. In the public sector, regulatory and other public health organizations, these graduates will evaluate the adequacy of processing and packaging parameters to produce safe end products and they will manage regulatory and information programs enhancing the safety of the food supply and consumer knowledge about the food supply.

II. Award Information/Funds Available

A. Award Amount

CFSAN at FDA intends to fund one award up to $5 million for FY 2014, with the possibility of 4 additional years of support, subject to the availability of funds. Future year amounts will depend on annual appropriations and successful performance. This cooperative agreement requires that the applicant share in the project costs if an award is made, including but not limited to, partial salary support for administrative staff and in-kind support (e.g., faculty salaries and facilities costs).

B. Length of Support

The award will provide 1 year of support and include future recommended support for 4 additional years, contingent upon satisfactory performance in the achievement of project and program reporting objectives during the preceding year and the availability of Federal fiscal year appropriations.

III. Paper Application, Registration, and Submission Information

To submit a paper application in response to this FOA, applicants should first review the full announcement located at http://www.fda.gov/food/newsevents/default.htm. (FDA has verified the Web site addresses throughout this document, but FDA is not responsible for any subsequent changes to the Web site after this document publishes in the Federal Register.) Persons interested in applying for a grant may obtain an application at http://grants.nih.gov/grants/forms.htm For all paper application submissions, the following steps are required:

• Step 1: Obtain a Dun and Bradstreet (DUNS) Number.

• Step 2: Register With System for Award Management (SAM).

• Step 3: Register With Electronic Research Administration (eRA) Commons.

Steps 1 and 2, in detail, can be found at http://www07.grants.gov/applicants/organization_registration.jsp. Step 3, in detail, can be found at https://commons.era.nih.gov/commons/registration/registrationInstructions.jsp.

Dated: April 22, 2014.
Leslie Kux,
Assistant Commissioner for Policy.

[FR Doc. 2014-09501 Filed 4-25-14; 8:45 am]

BILLING CODE 4160-01-P